DEPARTMENT OF COMMERCE

National Oceanic and Atmospheric Administration

RIN 0648-XG578

North Pacific Fishery Management Council; Public Meeting

AGENCY: National Marine Fisheries Service (NMFS), National Oceanic and Atmospheric Administration (NOAA), Commerce.

ACTION: Notice of a public meeting.

SUMMARY: The North Pacific Fishery Management Council (Council) Fishery Monitoring Advisory Committee Subgroup will meet on November 19, 2018.

DATES: The meeting will be held on Monday, November 19, 2018, from 8:30 a.m. to 11:30 a.m., Pacific Standard Time.

ADDRESSES: The meeting will be held at the International Pacific Halibut Commission Offices, 2320 West Commodore Way, Seattle, WA 98199. Teleconference number: (877) 733-2599, Conference ID: 282264.

Council address: North Pacific Fishery Management Council, 605 W 4th Ave., Suite 306, Anchorage, AK 99501-2252; telephone: (907) 271-2809.

FOR FURTHER INFORMATION CONTACT: Elizabeth Figus, Council staff; telephone: (907)-271-2801.

SUPPLEMENTARY INFORMATION:

Agenda

Monday, November 19, 2018

The agenda will include: drafting additional recommendations for how to potentially lower costs and increase observer coverage rates in the partial coverage category while maintaining the data sufficient for managing the fisheries; randomized deployment; and, cost equity considerations among participants. This may include providing input of differential deployment base levels by gear type.

The Agenda is subject to change, and the latest version will be posted at www.npfmc.org prior to the meeting, along with meeting materials.

Public Comment

Public comment letters will be accepted and should be submitted either electronically to Elizabeth Figus, Council staff: Elizabeth.figus@noaa.gov or through the mail: North Pacific Fishery Management Council, 605 W 4th Ave., Suite 306, Anchorage, AK 99501-2252. In-person oral public testimony will be accepted at the discretion of the chair.

Special Accommodations

The meeting is physically accessible to people with disabilities. Requests for sign language interpretation or other auxiliary aids should be directed to Shannon Gleason at (907) 271-2809 at least 7 working days prior to the meeting date.

Dated: October 30, 2018.
Tracey L. Thompson,
Acting Deputy Director, Office of Sustainable Fisheries, National Marine Fisheries Service.

[FR Doc. 2018-23978 Filed 11-1-18; 8:45 am]

BILLING CODE 3510-22-P